DEPARTMENT OF THE INTERIOR
Bureau of Land Management
[CA-610-04-1220-AA]
Meeting of the California Desert District Advisory Council

SUMMARY:
Notice is hereby given, in accordance with Public Laws 92-463 and 94-579, that the California Desert District Advisory Council to the Bureau of Land Management, U.S. Department of the Interior, will participate in a field tour of the BLM-administered public lands on Friday, April 23, 2004, from 8 a.m. to 5 p.m., and meet in formal session on Saturday, April 24, from 8 a.m. to 4 p.m. The Saturday meeting will be held at the Needles City Council Chambers, located 1111 Bailey, Needles, California.
The Council and interested members of the public will assemble for a field tour at the parking lot of the Best Western Colorado River Inn at 7:45 a.m. and depart 8 a.m. The Inn is located at 2371 West Broadway in Needles, California. Tour stops will include a dedication of a Route 66 interpretive display and a BLM grazing allotment. Presentations and discussions will focus on current grazing management and proposed revisions to the grazing regulations. The public is welcome to participate in the tour, but should plan on providing their own transportation, drinks, and lunch.
Agenda items for the Saturday Council meeting will include an update on the West Mojave Plan, reports by Council members serving on the grazing technical review team (TRT) and the Imperial Sand Dunes TRT, Council recommendations to Secretary of the Interior Gail Norton regarding the proposed revisions of BLM's grazing regulations, an overview to the Desert Manager's Group annual work plan, and a tentative presentation on the Clark County (Nevada) Habitat Conservation Plan.
All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT:
Doran Sanchez, BLM California Desert District Public Affairs Specialist (909) 697-5220.

Dated: January 21, 2004.
Linda Hansen,
District Manager.

[FR Doc. 04-1960 Filed 1-29-04; 8:45 am]
BILLING CODE 4310-40-P